DEPARTMENT OF THE INTERIOR

National Park Service

[NPS-WASO-NAGPRA-NPS0023884; PPWOCRADN0-PCU00RP14.R50000]

Notice of Inventory Completion: Missouri Department of Natural Resources, Jefferson City, MO; Correction

AGENCY: National Park Service, Interior.

ACTION: Notice; correction.

SUMMARY: The Missouri Department of Natural Resources has corrected an inventory of human remains and associated funerary objects, published in a Notice of Inventory Completion in the Federal Register on July 30, 2013. This notice corrects the cultural affiliation of the human remains and associated funerary objects. Lineal descendants or representatives of any Indian tribe or Native Hawaiian organization not identified in this notice that wish to request transfer of control of these human remains and associated funerary objects should submit a written request to the Missouri Department of Natural Resources. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Missouri Department of Natural Resources at the address in this notice by October 23, 2017.

ADDRESSES: Heather Gibb, Missouri Department of Natural Resources, P.O. Box 176, Jefferson City, MO 65102, telephone (573) 751-7858, email heather.gibb@dnr.mo.gov.

SUPPLEMENTARY INFORMATION: Notice is hereby given in accordance with the Native American Graves Protection and Repatriation Act (NAGPRA), 25 U.S.C. 3003, of the correction of an inventory of human remains and associated funerary objects under the control of the Missouri Department of Natural Resources, Jefferson City, MO. The human remains and associated funerary objects were removed from the Clarksville Mound Group site (23PI6) in Pike County, MO.

This notice is published as part of the National Park Service's administrative responsibilities under NAGPRA, 25 U.S.C. 3003(d)(3). The determinations in this notice are the sole responsibility of the Missouri Department of Natural Resources, which has control of the Native American human remains and associated funerary objects to which this notice pertains. The National Park Service is not responsible for the determinations in this notice.

This notice corrects the cultural affiliation of the human remains and associated funerary objects published in a Notice of Inventory Completion in the Federal Register (78 FR 45960, July 30, 2013). The correction is based on evidence of cultural affiliation of the human remains and associated funerary objects with The Osage Nation (previously listed as the Osage Tribe) that was provided after the Notice of Inventory Completion was published. Transfer of control of the items in this correction notice has not occurred.

Correction

In the Federal Register (78 FR 45960, July 30, 2013), column 2, full paragraph 2, under the heading “Consultation,” is corrected by substituting the following paragraph:

A detailed assessment of the human remains was made by professional staff of the Missouri Department of Natural Resources in consultation with representatives of the Sac & Fox Nation, Oklahoma; Sac & Fox Nation of Missouri in Kansas and Nebraska; Sac & Fox Tribe of the Mississippi in Iowa; and The Osage Nation (previously listed as the Osage Tribe).

In the Federal Register (78 FR 45960, July 30, 2013), column 3, full paragraph 1, under the heading “History and Description of the Remains,” is corrected by substituting the following paragraph:

The area of Pike County, MO, was occupied by The Osage Nation (previously listed as the Osage Tribe) at various points in prehistory and was ceded by the Sauk and Fox in a series of treaties with the United States between 1804 and 1816. The Sauk and Fox are represented by the present-day Sac & Fox Nation, Oklahoma; Sac & Fox Nation of Missouri in Kansas and Nebraska; and Sac & Fox Tribe of the Mississippi in Iowa. Cultural affiliation was determined based on tribal history, oral history, and the historical association of these tribes to the counties bordering the Mississippi River, including Pike County, MO.

In the Federal Register (78 FR 45960, July 30, 2013), column 3, full paragraph 5, under the heading “Determinations Made by the Missouri Department of Natural Resources,” is corrected by substituting the following paragraph:

Pursuant to 25 U.S.C. 3001(2), there is a relationship of shared group identity that can be reasonably traced between the Native American human remains and the Sac & Fox Nation, Oklahoma; Sac & Fox Nation of Missouri in Kansas and Nebraska; Sac & Fox Tribe of the Mississippi in Iowa; and The Osage Nation (previously listed as the Osage Tribe).

Additional Requestors and Disposition

Lineal descendants or representatives of any Indian tribe or Native Hawaiian organization not identified in this notice that wish to request transfer of control of these human remains and associated funerary objects should submit a written request with information in support of the request to Heather Gibb, Missouri Department of Natural Resources, P.O. Box 176, Jefferson City, MO 65102, telephone (573) 751-7858, email heather.gibb@dnr.mo.gov, by October 23, 2017. After that date, if no additional requestors have come forward, transfer of control of the human remains and associated funerary objects to the Sac & Fox Nation, Oklahoma; Sac & Fox Nation of Missouri in Kansas and Nebraska; Sac & Fox Tribe of the Mississippi in Iowa; and The Osage Nation (previously listed as the Osage Tribe) may proceed.

The Missouri Department of Natural Resources is responsible for notifying the Sac & Fox Nation, Oklahoma; Sac & Fox Nation of Missouri in Kansas and Nebraska; Sac & Fox Tribe of the Mississippi in Iowa; and The Osage Nation (previously listed as the Osage Tribe) that this notice has been published.

Dated: July 26, 2017.
Melanie O'Brien,
Manager, National NAGPRA Program.

[FR Doc. 2017-20296 Filed 9-21-17; 8:45 am]

BILLING CODE 4312-52-P